DEPARTMENT OF COMMERCE

Foreign-Trade Zones Board

Docket 48-2009

Foreign-Trade Zone 89 - Las Vegas, Nevada

Application for Expansion

An application has been submitted to the Foreign-Trade Zones Board (the Board) by the Nevada Development Authority, grantee of Foreign-Trade Zone 89, requesting authority to expand its zone to include a site in the City of North Las Vegas, Nevada. The application was submitted pursuant to the provisions of the Foreign-Trade Zones Act, as amended (19 U.S.C. 81a-81u), and the regulations of the Board (15 CFR Part 400). It was formally filed on November 9, 2009.

FTZ 89 was approved by the Board on November 7, 1983 (Board Order 227, 48 FR 51665, 11/10/83) and expanded on December 4, 1989 (Board Order 452, 54 FR 50787, 12/11/89) and March 11, 1994 (Board Order 688, 59 FR 12893, 3/18/94). The general-purpose zone currently consists of six sites in the Las Vegas, Nevada area: Site 1: (23 acres) -- Las Vegas Convention Center, Clark County; Site 3: (two parcels, 317 acres and 120,000 sq. ft.) -- within the Hughes Airport Center Industrial Park, adjacent to McCarran International Airport; Site 4: (37 acres) -- North Las Vegas Business Center, North Las Vegas; Site 5: (516 acres) -- AMPAC Development Company - Gibson Business Park, Clark County; Site 6: (160 acres) -- Las Vegas International Air Cargo Center at McCarran International Airport, Clark County; and, Site 7: World Jewelry Center, Union Park Center, Las Vegas, Nevada.

The applicant is requesting authority to expand the zone to include a new site in the City of North Las Vegas (Clark County): Proposed Site 8 (365 acres) the City View Business Park located west of the intersection of Interstate 15 and State Road 604. The site will provide warehousing and distribution services to area businesses. No specific manufacturing authority is being requested at this time. Such requests would be made to the Board on a case-by-case basis.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is January 19, 2010. Rebuttal comments in response to material submitted during the foregoing period may be submitted during the subsequent 15-day period (to February 1, 2010).

A copy of the application will be available for public inspection at the Office of the Executive Secretary, Foreign-Trade Zones Board, Room 2111, U.S. Department of Commerce, 1401 Constitution Avenue, NW, Washington, DC 20230-0002 and in the “Reading Room” section of the Board's website, which is accessible via www.trade.gov/ftz. For further information contact Christopher Kemp at Christopher.Kemp@trade.gov or (202)482-0862.

Dated: November 9, 2009.
Andrew McGilvray,
Executive Secretary.

[FR Doc. E9-27571 Filed 11-16-09; 8:45 am]

BILLING CODE 3510-DS-S